DEPARTMENT OF THE INTERIOR

Bureau of Land Management

43 CFR Part 8360

[BLM_CO_FRN_MO4500179563]

Travel Management on Public Lands in Montrose, Delta, San Miguel, and Ouray Counties, CO

AGENCY: Bureau of Land Management, Interior.

ACTION: Final supplementary rule.

SUMMARY: The Bureau of Land Management (BLM) is finalizing a supplementary rule to regulate travel management decisions in the Dry Creek Travel Management Plan (TMP) issued December 1, 2009; the Ridgway TMP issued May 10, 2013; and the Norwood-Burn Canyon TMP issued November 14, 2014. The supplementary rule will apply to public lands in Montrose, Delta, San Miguel, and Ouray counties, Colorado, administered by the BLM Uncompahgre Field Office.

DATES: The final supplementary rule is effective on October 9, 2024.

ADDRESSES: You may send inquiries by mail, electronic mail, or hand-delivery. Mail or hand delivery: Caroline Kilbane, Outdoor Recreation Planner, BLM Uncompahgre Field Office, 2505 S Townsend Ave., Montrose, CO 81401. Electronic mail: ckilbane@blm.gov.

FOR FURTHER INFORMATION CONTACT: Caroline Kilbane, Outdoor Recreation Planner, at (970) 240-5300 or by email at ckilbane@blm.gov. Individuals in the United States who are deaf, deafblind, hard of hearing or have a speech disability may dial 711 (TTY, TDD, or TeleBraille) to access telecommunications relay services. Individuals outside the United States should use the relay services offered within their country to make international calls to the point-of- contact in the United States.

SUPPLEMENTARY INFORMATION:

I. Background

The BLM is establishing this supplementary rule under the authority of 43 CFR 8365.1-6, which authorizes BLM State Directors to establish supplementary rules for the protection of persons, property, and public lands and resources.

In March 2007, the BLM published in the Federal Register a Notice of Intent to Amend the Uncompahgre Basin and San Juan/San Miguel Resource Management Plans (RMPs) and prepare the Dry Creek Comprehensive Travel Management Plan, Colorado (72 FR 10243). The RMP amendment, approved in June 2010, changed off-highway vehicle designations in identified areas from “Open or Limited” to “Limited to existing routes year-long or with seasonal restrictions” until further route-by-route planning could be completed. The BLM issued decision records for the Dry Creek TMP on December 1, 2009; the Ridgway TMP on May 13, 2013; and the Norwood-Burn Canyon TMP on November 14, 2014. The BLM approved the TMPs after multiple public comment opportunities and coordination with local government. On April 2, 2020, the BLM approved a revised Uncompahgre RMP that includes the Dry Creek, Ridgway, and Norwood-Burn Canyon travel management areas (TMAs) and brings forward from the TMPs the travel management decisions for these areas.

This rule will implement and enforce several key decisions in the TMPs to protect natural resources, enhance public safety, and help improve habitat quality, big-game winter range, and migration corridors. The rule does not affect other existing rules. The rule applies to more than 121,000 acres of public land within the Dry Creek, Ridgway, and Norwood-Burn Canyon TMAs administered by the BLM Uncompahgre Field Office in Montrose, Delta, San Miguel, and Ouray counties, Colorado. This rule is necessary to regulate travel management decisions in the TMPs that restrict certain activities and define allowable uses intended to enhance public safety, protect natural and cultural resources, eliminate non-motorized impacts on sensitive species habitat, and reduce conflicts among public land users.

The rule makes enforceable restrictions limiting the operation of mechanized vehicles to designated travel routes identified in the TMPs, with the following exemptions: (1) big game hunters are permitted to use mechanized game carts off designated travel routes outside of designated wilderness and wilderness study areas only when necessary to retrieve big game animals during authorized hunting seasons; (2) mechanized vehicles are permitted to pull off designated travel routes up to one vehicle-width from the edge of a roadway to accommodate parking, dispersed camping, or general recreation; and (3) in the Dry Creek TMA, mechanized vehicles are permitted to pull off within 300 feet of a designated travel route in a designated camping area identified by a BLM sign or map.

The rule makes enforceable seasonal restrictions on travel in certain priority big game wintering habitats identified by the BLM Uncompahgre Field Office, in consultation with Colorado Parks and Wildlife, as the most important big game winter use areas within the TMAs. These seasonal restrictions allow for human access during non-restricted periods while closing key areas during critical seasons to preserve the health of big game herds.

The rule makes enforceable authorized dispersed camping in the Norwood-Burn Canyon and Dry Creek TMAs unless a BLM sign or map identifies an area as closed to such use, as well as authorized camping in designated campgrounds in the Dry Creek TMA identified by a BLM sign or map. The rule implements and makes enforceable the closure of the Ridgway TMA to overnight use. In the Ridgway TMA, the rule makes enforceable the requirement that pets be leashed in the Uncompahgre Riverway Area and at all trailheads, as identified by BLM signs or maps, and under audible or physical control in all other areas. In the Norwood-Burn Canyon TMA, the rule makes enforceable the requirement that pets be leashed at trailheads, as identified by BLM signs or maps, and under audible or physical control in all other areas. In the Dry Creek TMA, the rule makes enforceable the requirement that pets be under audible or physical control.

II. Discussion of Public Comments and Final Supplementary Rule

The BLM published a proposed supplementary rule on November 28, 2022 (87 FR 72954), soliciting public comments for 60 days. During the comment period, the BLM received one submission from a conservation organization. The comment supported the proposed rule and expressed support for protecting big game wintering habitat. No changes were made to the final supplementary rule as a result of the public comment.

The final rule updates Rule No. 1 under the Ridgway TMA Prohibited Acts section to clarify that the big game seasonal closure applies to trail uses on designated routes only and is not an area closure.

III. Procedural Matters

Regulatory Planning and Review (Executive Orders (E.O.s) 12866 and 13563)

E.O. 12866, as amended by E.O. 14094, provides that the Office of Information and Regulatory Affairs (OIRA) in the Office of Management and Budget will review all significant rules. This rule is not significant under E.O. 12866. The rule will not have an effect of $100 million or more on the economy. The rule does not adversely affect in a material way the economy; productivity; competition; jobs; the environment; public health or safety; or State, local, or Tribal governments or communities. The rule will not create a serious inconsistency or otherwise interfere with an action taken or planned by another agency. The rule will not materially alter the budgetary effects of entitlements, grants, user fees, or loan programs, or the rights or obligations of their recipients; nor does it raise novel legal or policy issues. The rule will not affect legal commercial activity; it merely imposes limitations on certain recreational activities on certain public lands to protect natural resources and enhance public safety.

E.O. 13563 reaffirms the principles of E.O. 12866 while calling for improvement in the nation's regulatory system to promote predictability, to reduce uncertainty, and to use the best, most innovative, and least burdensome tools for achieving regulatory ends. The Executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Congress enacted the Regulatory Flexibility Act (RFA) of 1980, as amended (5 U.S.C. 601-612), to ensure that government regulations do not unnecessarily or disproportionately burden small entities. The RFA requires a regulatory flexibility analysis if a rule would have a significant economic impact, either detrimental or beneficial, on a substantial number of small entities.

This rule has no effect on business entities of any size and merely imposes reasonable restrictions on certain recreational activities on certain public lands to protect natural resources and the environment and human health and safety. Therefore, the BLM has determined under the RFA this rule does not have a significant economic impact on a substantial number of small entities.

Congressional Review Act

This supplementary rule does not constitute a “major rule” as defined at 5 U.S.C. 804(2), the Small Business Regulatory Enforcement Fairness Act. The rule will not:

(a) Have an annual effect on the economy of $100 million or more;

(b) Cause a major increase in costs or prices for consumers; individual industries; Federal, State, or local agencies; or geographic regions; or

(c) Have significant adverse effects on competition, employment, investment, productivity, innovation, or on the ability of United States-based enterprises to compete with foreign- based enterprises in domestic and export markets.

This rule merely imposes reasonable restrictions on certain recreational activities on certain public lands to protect natural resources and the environment and human health and safety.

Unfunded Mandates Reform Act

The rule does not impose an unfunded mandate on State, local, or Tribal governments in the aggregate, or the private sector, of more than $100 million per year; nor does it have a significant or unique effect on small governments. The rule merely imposes reasonable restrictions on certain recreational activities on certain public lands to protect natural resources and the environment and human health and safety. Therefore, the BLM is not required to prepare a statement containing the information required by the Unfunded Mandates Reform Act (2 U.S.C. 1531 et seq.).

Takings (E.O. 12630)

The rule does not constitute a Government action capable of interfering with constitutionally protected property rights. The rule does not address property rights in any form and does not cause the impairment of constitutionally protected property rights. Therefore, the BLM has determined that the rule does not cause a “taking” of private property or require further discussion of takings implications under this Executive order.

Federalism (E.O. 13132)

The rule does not have a substantial direct effect on the States, on the relationship between the National Government and the States, or on the distribution of power and responsibilities among the various levels of government. Therefore, in accordance with Executive Order 13132, the BLM has determined that this rule does not have sufficient federalism implications to warrant preparation of a Federalism Assessment.

Civil Justice Reform (E.O. 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation and Coordination With Indian Tribal Governments (E.O. 13175)

The Department of the Interior strives to strengthen its government-to-government relationship with Indian Tribes through a commitment to consultation with Indian Tribes and recognition of their right to self-governance and Tribal sovereignty.

In accordance with Executive Order 13175, the BLM has found this rule does not include policies that have Tribal implications and will have no bearing on trust lands or lands for which title is held in fee status by Indian Tribes or U.S. Government-owned lands managed by the Bureau of Indian Affairs. Therefore, consultation under the Department's Tribal consultation policy is not required.

Paperwork Reduction Act

This final supplementary rule does not contain information collection requirements the Office of Management and Budget must approve under the Paperwork Reduction Act of 1995, 44 U.S.C. 3501-3521.

National Environmental Policy Act (NEPA)

The supplementary rule implements key decisions in the TMPs. During the NEPA review for the TMPs, the BLM analyzed the substance of the supplementary rule in three different environmental assessments (EAs): DOI-BLM-CO-SO50-2008-033 EA for the Dry Creek TMP (decision record signed December 1, 2009); DOI-BLM-CO-SO50-2011-0011 EA for the Ridgway TMP (decision record signed May 13, 2013); and DOI-BLM-CO-SO50-2012-019 EA for the Norwood-Burn Canyon TMP (decision record signed November 14, 2014). Electronic copies of the decision records for each TMP are on file at the BLM office at the address specified in the ADDRESSES section above. The BLM completed a determination of NEPA adequacy (DOI-BLM-CO-S050-2021-0045 DNA) confirming that the analyses in the TMP EAs, and the associated public involvement procedures, as well as the Uncompahgre Field Office RMP, are sufficient to support this rulemaking.

Effects on the Energy Supply (E.O. 13211)

This rule does not comprise a significant energy action and does not have an adverse effect on energy supply, production, or consumption and has no connection with energy policy.

Author

The principal author of this supplementary rule is Caroline Kilbane, Outdoor Recreation Planner, BLM, Uncompahgre Field Office.

IV. Final Rule

For the reasons stated in the preamble, and under the authority of 43 U.S.C. 1740 and 43 CFR 8365.1-6, the Colorado State Director, Bureau of Land Management (BLM), establishes supplementary rules for public lands managed by the BLM in the Dry Creek, Ridgway, and Norwood-Burn Canyon Travel Management Areas located in Montrose, Delta, San Miguel, and Ouray counties, Colorado, to read as follows:

Definitions

Camping means erecting a tent or a shelter of natural or synthetic materials; preparing a sleeping bag or other bedding material for use; or parking a motor vehicle, motor home, or trailer for the purpose or apparent purpose of overnight occupancy.

Designated travel routes means roads, primitive roads, and trails open or limited to specified modes of travel and identified on: (1) a BLM sign; or (2) a map of designated roads and trails that is maintained and available for public inspection at the BLM Uncompahgre Field Office, Colorado. Designated routes are open or limited to public use in accordance with any limits and restrictions as are specified in the Uncompahgre Resource Management Plan (RMP), the Dry Creek Travel Management Plan (TMP), the Ridgway TMP, the Norwood-Burn Canyon TMP, in future decisions implementing the RMP, or in this supplementary rule. Restrictions may include signs or physical barriers such as gates, fences, posts, branches, or rocks.

Mechanized vehicle means a vehicle using a mechanical device not powered by a motor, such as a bicycle.

Pet means any domesticated or tamed animal that is kept as a companion.

Prohibited Acts

Dry Creek Travel Management Area (TMA) Prohibited Acts

(1) You must not operate or possess a mechanized vehicle except on designated travel routes, unless:

(a) You are using a mechanized game cart for the purpose of retrieving a large game animal during authorized hunting seasons, outside of congressionally designated wilderness areas and wilderness study areas;

(b) You are using a mechanized vehicle for the purpose of parking within one vehicle-width of the edge of a designated travel route for dispersed camping, where allowed, or general recreation; or

(c) You are using a mechanized vehicle in a designated camping area as designated by a BLM sign or map and are within 300 feet of the designated travel route.

(2) You must not operate or possess a mechanized vehicle on specific routes that cross priority big game wintering habitat from December 1 to April 15 or December 1 to March 31, as designated by a BLM sign or map, except to access private inholdings with proper authorization.

(3) Pets must be controlled by physical or audible means.

Ridgway TMA Prohibited Acts

(1) You must not operate or possess a mechanized vehicle except on designated travel routes, unless you are using a mechanized game cart for the purpose of retrieving a large game animal during authorized hunting seasons.

(2) You must not operate or possess a mechanized vehicle or travel by foot or horse on specific routes that cross priority big game wintering habitat from December 1 to April 30, as designated by a BLM sign or map, except to access private inholdings with proper authorization and within the Uncompahgre Riverway Area.

(3) Pets must remain on leashes within the Uncompahgre Riverway Area and at trailheads designated by a BLM sign or map. In all other areas, pets must be controlled by physical or audible means.

(4) Overnight use is not allowed.

(5) Mechanized vehicles must be parked within one vehicle-width of the edge of a designated travel route.

Norwood-Burn Canyon TMA Prohibited Acts

(1) You must not operate or possess a mechanized vehicle except on designated travel routes, unless:

(a) You are using a mechanized game cart for the purpose of retrieving a large game animal during authorized hunting seasons; or

(b) You are using a mechanized vehicle for the purpose of parking within one vehicle-width of the edge of a designated travel route for dispersed camping or general recreation.

(2) You must not operate or possess a mechanized vehicle on any route that crosses priority big game wintering habitat from December 1 to April 30, as designated by a BLM sign or map, except to access private inholdings with proper authorization.

(3) Dispersed camping is allowed unless closed by a BLM sign or map.

(4) Pets must remain on leashes at trailheads designated by BLM signs or maps. In all other areas, pets must be controlled by physical or audible means.

Exemptions

The following persons are exempt from this supplementary rule: any Federal, State, or local officers or employees acting within the scope of their duties; members of any organized law enforcement, military, rescue, or fire-fighting force performing an official duty; and persons, agencies, municipalities, or companies holding an existing special-use permit and operating within the scope of their permit.

Enforcement

Any person who violates any part of the final supplementary rule may be tried before a United States Magistrate and fined in accordance with 18 U.S.C. 3571, imprisoned no more than 12 months under 43 U.S.C. 1733(a) and 43 CFR 8360.0-7, or both. In accordance with 43 CFR 8365.1-7, State or local officials may also impose penalties for violations of Colorado and local law.

(Authority: 43 U.S.C. 1733, 43 U.S.C. 1740; 43 CFR 8365.1-6)

Douglas J. Vilsack,
BLM Colorado State Director.

[FR Doc. 2024-20154 Filed 9-6-24; 8:45 am]

BILLING CODE 4331-16-P